DEPARTMENT OF ENERGY

Federal Energy Regulatory Commission

[Project No. 4451-024]

Green Mountain Power Corporation, City of Somersworth, New Hampshire; Notice Soliciting Scoping Comments

Take notice that the following hydroelectric application has been filed with the Commission and is available for public inspection.

a. Type of Application: Subsequent Minor License.

b. Project No.: 4451-024.

c. Date Filed: April 30, 2020.

d. Submitted By: Green Mountain Power Corporation and the City of Somersworth, New Hampshire.

e. Name of Project: Lower Great Falls Hydroelectric Project.

f. Location: On the Salmon Falls River in Strafford County, New Hampshire, and York County, Maine. No federal lands are occupied by the project works or located within the project boundary.

g. Filed Pursuant to: Federal Power Act, 16 U.S.C. 791(a)-825(r).

h. Applicant Contact: Mr. John Greenan, Green Mountain Power Corporation, 1252 Post Road, Rutland, VT 05701; Phone at (802) 770-2195, or email at john.greenan@greenmountainpower.com.

i. FERC Contact: Amanda Gill at (202) 502-6773; or email at amanda.gill@ferc.gov.

j. Deadline for filing scoping comments: December 30, 2020.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lower Great Falls Hydroelectric Project (P-4451-024).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Lower Great Falls Hydroelectric Project consists of: (1) A 297-foot-long, 32-foot-high stone masonry and concrete dam that includes the following sections: (a) A 176-foot-long spillway section with a crest elevation of 102.37 feet National Geodetic Vertical Datum of 1929 (NGVD 29) with 4-foot-high flashboards at an elevation of 106.37 feet NGVD 29 at the top of the flashboards and a 5.25-foot-wide, 4-foot-high debris sluice gate; (b) a 50-foot-long left abutment section with two 8-foot-wide, 8-foot-high low-level outlet gates (only one of which is operational), that control flow into two 7-foot-diameter, 40-foot-long outlet pipes; and (c) a 71-foot-long right abutment section; (2) a 40-acre impoundment with a normal surface elevation of 106.37 feet NGVD 29; (3) a 40.5-foot-wide, 20-foot-high intake structure with four 5-foot-wide, 10.5-foot-high steel frame gates and a trashrack with 2-inch bar spacing; (4) an 8.5-foot-diameter, 120-foot-long left, steel penstock that bifurcates into a 5.3-foot-diameter, 85-foot-long section and a 7.6-foot-diameter, 85-foot-long section; (5) an 8.5-foot-diameter, 140-foot-long right, steel penstock that bifurcates into a 7-foot-diameter, 85-foot-long section and a 7.6-foot-diameter, 85-foot-long section; (6) a 46-foot-long, 30-foot-wide concrete and brick powerhouse with two 260-kilowatt (kW) F-type Francis turbine-generator units and two 380-kW F-type Francis turbine-generator units, for a total installed capacity of 1.28 MW; (7) a 55-foot-long, 30-foot-wide tailrace; (8) a 260-foot-long underground transmission line that delivers power to a 4.16-kilovolt distribution line; and (9) appurtenant facilities. The project creates an approximately 250-foot-long bypassed reach of the Salmon Falls River.

The project operates as a run-of-river (ROR) facility with no storage or flood control capacity. The project impoundment is maintained at a flashboard crest elevation of 106.37 feet NGVD. The current license requires the project to maintain a continuous minimum flow of 6.05 cubic feet per second (cfs) or inflow, whichever is less, to the bypassed reach for the purpose of protecting and enhancing aquatic resources in the Salmon Falls River. The average annual generation production of the project was 3,916,825 kilowatt-hours from 2005 through 2018.

The applicant proposes to: (1) Continue operating the project in a ROR mode; (2) provide a minimum flow of 30 cfs or inflow, whichever is less, to the bypassed reach; (3) install an eel ramp for upstream eel passage at the project; (4) implement targeted nighttime turbine shutdowns to protect eels during downstream passage; (5) install a downstream fish passage structure for eels and other fish species.

m. In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. Due to restrictions on mass gatherings related to COVID-19, we do not intend to conduct a public scoping meeting and site visit in this case. Instead, we are soliciting written comments and suggestions on the preliminary list of issues and alternatives to be addressed in the NEPA document, as described in scoping document 1 (SD1), issued November 30, 2020.

Copies of the SD1 outlining the subject areas to be addressed in the NEPA document were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: November 30, 2020.
Kimberly D. Bose,
Secretary.

[FR Doc. 2020-26715 Filed 12-3-20; 8:45 am]

BILLING CODE 6717-01-P